DEPARTMENT OF COMMERCE

Foreign-Trade Zones Board

[B-44-2016]

Foreign-Trade Zone (FTZ) 44—Morris County, New Jersey; Authorization of Production Activity; Givaudan Flavors Corporation (Flavor Products); East Hanover, New Jersey

On June 13, 2016, the State of New Jersey, Department of State, grantee of FTZ 44, submitted a notification of proposed production activity to the Foreign-Trade Zones (FTZ) Board on behalf of Givaudan Flavors Corporation, within Subzone 44H in East Hanover, New Jersey.

The notification was processed in accordance with the regulations of the FTZ Board (15 CFR part 400), including notice in the Federal Register inviting public comment (81 FR 42649, June 30, 2016). The FTZ Board has determined that no further review of the activity is warranted at this time. The production activity described in the notification is authorized, subject to the FTZ Act and the Board's regulations, including Section 400.14.

Dated: October 27, 2016.
Andrew McGilvray,
Executive Secretary.

[FR Doc. 2016-26739 Filed 11-3-16; 8:45 am]

BILLING CODE 3510-DS-P